OFFICE OF PERSONNEL MANAGEMENT

OPM Guidance Documents Web Portal

AGENCY: Office of Personnel Management.

ACTION: Notice.

SUMMARY: The Office of Personnel Management (OPM) is announcing an online centralized portal that includes information about our guidance and a searchable, indexed listing of, and links to, our guidance documents. The portal, located on our website, does not displace other listings of or links to our guidance documents in topic-specific sections of our website.

DATES: The guidance portal is accessible by the public on the date of publication of this notice.

ADDRESSES: OPM's guidance Web Portal is available at www.opm.gov/guidance.

FOR FURTHER INFORMATION CONTACT: Alexys Stanley, Regulatory Affairs Analyst, and regulatory.information@opm.gov or via telephone at (202) 606-1000.

SUPPLEMENTARY INFORMATION: Executive Order 13891, and OMB implementing guidance memorandum M-20-02, require Federal agencies to establish an online, centralized, searchable database of their guidance documents, to include certain identifying information, and to provide information on how to comment on open guidance and how to request revisions to the agency's guidance. They also require agencies to publish notice in the Federal Register of the new guidance portal.

In compliance with the above, OPM is publishing this notice of the availability of a single, searchable, indexed database containing OPM guidance documents currently in effect, which may be accessed at www.opm.gov/guidance.

Office of Personnel Management.
Alexys Stanley,
Regulatory Affairs Analyst.

[FR Doc. 2021-00210 Filed 1-8-21; 8:45 am]

BILLING CODE 6325-46-P